DEPARTMENT OF DEFENSE

Department of the Air Force

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive (the field to include imaging and communication using infrared wavelengths) patent license to Ravee Optics Inc., a Delaware corporation having a place of business at 406 Greenmount Blvd., Oakwood, OH 45419.

DATES: Written objections must be filed no later than fifteen (15) calendar days after the date of publication of this notice.

ADDRESSES: Submit written objections to John DePinto, Air Force Research Laboratory, Manufacturing Directorate, Attn: Office of Technology Transfer & Applications, 2977 Hobson Way, Bldg. 653, Room 105; Phone: (937) 255-3637; or Email: afrl.rx.t2@us.af.mil. Include Docket No. 25-0005890-AFRL/RX in the subject line of the message.

FOR FURTHER INFORMATION CONTACT: John DePinto, Air Force Research Laboratory, Manufacturing Directorate, Attn: Office of Technology Transfer & Applications, 2977 Hobson Way, Bldg. 653, Room 105; Phone: (937) 255-3637; or Email: afrl.rx.t2@us.af.mil.

SUPPLEMENTARY INFORMATION:

Abstract of Patent Application(s)

A wafer-scale metamaterial structure and a method for forming is provided. The metamaterial structure has a number of reticles each having meta-atoms in which a number of dual-function meta-atoms form an alignment mark at an interior zone of the reticle. The alignment mark of the reticle is configured to align with a corresponding alignment mark at an interior zone of another reticle at a lithographic divide between the reticles that together form a metamaterial component. Misalignment between dual-function meta-atoms of the alignment mark and the dual-function meta-atoms of the corresponding alignment mark creates a plurality of malformed meta-atoms at the lithographic divide indicative of misalignment between the reticles.

Intellectual Property

U.S. Application No. 19/452,480, filed on January 19, 2026, and entitled Methodology to Realize Wafer-Scale Metamaterials Components.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR 404)

Crystle C. Poge,
Air Force Federal Register Liaison Officer.

[FR Doc. 2026-02686 Filed 2-10-26; 8:45 am]

BILLING CODE 3911-44-P